AGENCY FOR INTERNATIONAL DEVELOPMENT

Advisory Committee on Voluntary Foreign Aid (ACVFA); Notice of Meeting

Pursuant to the Federal Advisory Committee Act, notice is hereby given of a meeting of the newly appointed Advisory Committee on Voluntary Foreign Aid (ACVFA).

Date: September 14, 2000 (9:00 a.m. to 5:00 p.m.).

Location: Washington Plaza Hotel, Federal Hall, 10 Thomas Circle, NW., Washington, DC 20005.

This meeting, entitled “Combating the HIV/AIDS pandemic in sub-Saharan Africa” will focus attention on the next steps to be taken by the U.S. government, private voluntary organizations (PVOs), non-governmental organizations (NGOs), and the private sector, following the recent International AIDS Conference in Durban, South Africa.

The meeting is free and open to the public. However, notification by September 12, 1200 through the Advisory Committee Headquarters is required. Persons wishing to attend the meeting must fax their name, organization and phone number to Lisa J. Harrison (703) 741-0567.

Dated: August 15, 2000.
Noreen O'Meara,
Executive Director, Advisory Committee on Voluntary Foreign Aid (ACVFA).

[FR Doc. 00-21534 Filed 8-22-00; 8:45 am]

BILLING CODE 6116-01-M